DEPARTMENT OF COMMERCE

Foreign-Trade Zones Board

[Order No. 1251]

Approval of Processing Activity Within Foreign-Trade Zone 113 Midlothian, TX; Siemens Westinghouse Power Corporation (Inc.), (Industrial Power Generation Equipment)

Pursuant to its authority under the Foreign-Trade Zones Act of June 18, 1934, as amended (19 U.S.C. 81a-81u) (the Act), the Foreign-Trade Zones Board (the Board) adopts the following Order:

WHEREAS, Foreign-Trade Zone Operations, Inc., operator of FTZ 113, has requested authority on behalf of Siemens Westinghouse Power Corporation (Inc.), to process foreign-origin turbines and domestic industrial power generators under zone procedures within FTZ 113 (filed 4-29-2002, FTZ Docket 21-2002), and;

WHEREAS, the application seeks FTZ authority to admit foreign-origin steam turbines and domestically-produced electric generators and to withdraw the equipment for entry as generator sets; and,

WHEREAS, notice inviting public comment has been given in the Federal Register (67 FR 31180, 5-9-2002); and,

WHEREAS, the Board adopts the findings and recommendations of the examiner's report and finds that the requirements of the Act and the Board's regulations are satisfied, and that approval of the application is in the public interest;

NOW, THEREFORE, the Board hereby approves the request, subject to the Act and the Board's regulations, including Section 400.28.

Signed in Washington, DC, this 7th day of October, 2000.
Faryar Shirzad,
Assistant Secretary of Commerce for Import Administration, Alternate Chairman, Foreign-Trade Zones Board.
Attest:
Dennis Puccinelli,
Executive Secretary.

[FR Doc. 02-26414 Filed 10-16-02; 8:45 am]

BILLING CODE 3510-DS-P